DEPARTMENT OF AGRICULTURE

Animal and Plant Health Inspection Service

[Docket No. APHIS-2010-0032]

Notice of Determination of Pest-Free Areas in Mendoza Province, Argentina

AGENCY: Animal and Plant Health Inspection Service, USDA.

ACTION: Notice.

SUMMARY: We are advising the public that we are recognizing the Southern and Central Oases in the southern half of Mendoza Province in Argentina as pest-free areas for Mediterranean fruit fly and South American fruit fly. Based on our site visit to the area and our review of the documentation submitted by Argentina's national plant protection organization, which we made available to the public for review and comment through previous notices, the Administrator has determined that these areas meet the criteria in our regulations for recognition as pest-free areas for Mediterranean fruit fly and South American fruit fly.

DATES: Effective Date: December 27, 2011.

FOR FURTHER INFORMATION CONTACT: Ms. Meredith C. Jones, Regulatory Coordination Specialist, Regulatory Coordination and Compliance, APHIS, 4700 River Road Unit 156, Riverdale, MD 20737; (301) 734-7467.

SUPPLEMENTARY INFORMATION:

Under the regulations in “Subpart—Fruits and Vegetables” (7 CFR 319.56-1 through 319.56-54, referred to below as the regulations), the Animal and Plant Health Inspection Service (APHIS) of the U.S. Department of Agriculture prohibits or restricts the importation of fruits and vegetables into the United States from certain parts of the world to prevent plant pests from being introduced into and spread within the United States.

Section 319.56-4 of the regulations contains a performance-based process for approving the importation of commodities that, based on the findings of a pest risk analysis, can be safely imported subject to one or more of the designated phytosanitary measures listed in paragraph (b) of that section. One of the designated phytosanitary measures is that the fruits or vegetables are imported from a pest-free area in the country of origin that meets the requirements of § 319.56-5 for freedom from that pest and are accompanied by a phytosanitary certificate stating that the fruits or vegetables originated in a pest-free area in the country of origin.

Under the regulations in § 319.56-5, APHIS requires that determinations of pest-free areas be made in accordance with the criteria for establishing freedom from pests found in International Standards for Phytosanitary Measures (ISPM) No. 4, “Requirements For the Establishment of Pest Free Areas.” The international standard was established by the International Plant Protection Convention of the United Nations' Food and Agriculture Organization and is incorporated by reference in our regulations in 7 CFR 300.5. In addition, APHIS must also approve the survey protocol used to determine and maintain pest-free status, as well as protocols for actions to be performed upon detection of a pest. Pest-free areas are subject to audit by APHIS to verify their status.

In accordance with our process, we published a notice ¹ in the Federal Register on June 25, 2010 (75 FR 36347-36348, Docket No. APHIS-2010-0032), in which we announced the availability, for review and comment, of a commodity import evaluation document (CIED) that evaluates the information presented by Argentina in support of its request to recognize additional areas as pest-free areas for Mediterranean fruit fly (Ceratitis capitata) in Argentina. We solicited comments on the notice for 60 days ending on August 24, 2010. We received two comments by that date, one from a State agricultural official and the other from an official of Argentina's national plant protection organization (NPPO).

¹ To view the June 2010 and August 2011 notices, the CIEDs, and the comments we received, go to http://www.regulations.gov/#!docketDetail;D=APHIS-2010-0032.

The first commenter acknowledged Argentina's history of successful Medfly control efforts, but stated that APHIS should not relax its fruit fly-related restrictions until it can confirm that no other pest fruit flies—notably Anastrepha species fruit flies—are present in the area. The second commenter provided information to support a finding that the Mendoza Province is free of the South American fruit fly (Anastrepha fraterculus). As a result of these comments, APHIS contacted the Argentine NPPO, which requested that, in addition to the pest-free status for C. capitata, the Mendoza province of Argentina also be recognized as free of A. fraterculus.

We published a second notice in the Federal Register on August 19, 2011 (76 FR 51934-51935, Docket No. APHIS-2010-0032), in which we announced the availability, for review and comment, of a CIED evaluating the information presented by Argentina in support of its request to recognize additional areas as pest-free areas for the South American fruit fly and all other economically important species of Anastrepha in Argentina. We solicited comments on the notice for 60 days ending on October 18, 2011. We received no comments by that date.

Therefore, in accordance with § 319.56-5(c), we are announcing the Administrator's determination that the Southern and Central Oases in the southern half of Mendoza Province in Argentina meet the criteria of § 319.56-5(a) and (b) with respect to freedom from Medfly, South American fruit fly, and all other economically important species of Anastrepha. Accordingly, we are recognizing these areas as pest-free areas for Medfly, South American fruit fly, and all other economically important species of Anastrepha and have added them to the list of pest-free areas. A list of pest-free areas currently recognized by APHIS can be found at http://www.aphis.usda.gov/import_export/plants/manuals/ports/downloads/DesignatedPestFreeAreas.pdf.

Done in Washington, DC, this 19th day of December 2011.
Kevin Shea,
Acting Administrator, Animal and Plant Health Inspection Service.

[FR Doc. 2011-33110 Filed 12-23-11; 8:45 am]

BILLING CODE 3410-34-P